DEPARTMENT OF ENERGY

Federal Energy Regulatory Commission

[Project No. 1895-007, South Carolina]

South Carolina Electric and Gas Company; Notice of Availability of Draft Environmental Assessment

November 2, 2001.

In accordance with the National Environmental Policy Act of 1969 and the Federal Energy Regulatory Commission's (Commission) regulations, 18 CFR part 380 (Order No. 486, 52 FR 47897), the Office of Energy Projects has reviewed the application for license for the Columbia Hydroelectric Project, located on the Broad and Congaree Rivers in the City of Columbia and Richland County, South Carolina, and has prepared a Draft Environmental Assessment (DEA) for the project. There are no federal lands occupied by the project works or located within the project boundary.

The DEA contains the staff's analysis of the potential environmental impacts of the project and concludes that licensing the project, with appropriate environmental protective measures, would not constitute a major federal action that would significantly affect the quality of the human environment.

A copy of the DEA is on file with the Commission and is available for public inspection. The DEA may also be viewed on the web at http://www.ferc.gov using the “RIMS” link—select “Docket #” and follow the instructions (call 202-208-2222 for assistance).

Any comments should be filed within 45 days from the date of this notice and should be addressed to David P. Boergers, Secretary, Federal Energy Regulatory Commission, 888 First Street, NE, Washington, DC 20426. Please affix Project No. 1895-007 to all comments. Comments may be filed electronically via the Internet in lieu of paper. See 18 CFR 385.2001(a)(1)(iii) and the instructions on the Commission's web site under the “e-Filing” link.

For further information, contact Charles Hall at 202-219-2853.

Linwood A. Watson, Jr.,
Acting Secretary.

[FR Doc. 01-28039 Filed 11-7-01; 8:45 am]

BILLING CODE 6717-01-P